DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2000.

Last name | First name | Middle name
Alvear | Lars | Mikael
An | Suk | Hyun
Aurstad | Marit | Arleen
Avaznia | Natasha
Baarsden | Espen
Bailey | Chong | Cha
Barili | Ok | Pun
Boeck | George | Henry
Borel | Didier
Canellopoulos | Takis | P.
Chang | David | Hak
Cheung | Karen | Tih Loh
Chipps | Myong | Suk
Cihla | Peter | Ernst
Cipriano | Robert | James
Conmy | Kevin | Francis
Cooper | Bryan | Patrick
Corbett Jr. | Charles | Frederick
Crook | Howard | Alan
Dahl | Anne
Dublin-Poulos | Suri | E.
Emery | Mary | Elizabeth
Emeryiii | Roland | Scott
Feliciano | Eun | Ye
Foote | Charlotte | Maria
Freeman | Derrick | Blair
Fuerniss | Elisabeth | Julia
Gates-Robert | Diane
Halter | Cornelia | Adriana, Maria
Halter | Pieter
Han | Jung-Sook
Headford | June | Carol
Henderson | Teresa | Micheile
Hillgard | Elsie | Marie-Brigitte
Hobden | John | Andrew
Homann-Herimberg | Claude | Marie
Hsue | Glen | Jen
Hughes | Linda | Joans
Jimenez | Carmen | Dora
Jimenez | Enrique | Manuel
Jimenez | Maria | Elena
Jimenez | Olga | Maria
Johnson Jr. | Glenn | Elwood
Jones | Juergen | Richard
Keller | Peter | John
Kim | Ki | Sun
Kim | Ted | Yong
Ko | Miguel
Lan Ng | Macy | Yuen
Lawrence | Deborah | S.
Malms | Christoph | P.
Malone | Nancy | Isolde
Mansfield | Patricia | Joan
Marcus | Mary | Ellen
Marias | Kim | Irene
Mc Kenna | Joanne | Marie
Mccarthy | Mary
Michael-Beerbaum | Meredith | True
Oye | Bradford
Park | Choon | Duk
Peterson | Thedosius | Nicholas
Pfister | Gustav | R.
Porrino | Ano | Jason
Poulos | Darrel
Rush | Wayne | Alan
Salhab | Tanja
Salisbury | Gerald | Allen
Sanford-Nydes | Robin
Sayre | Heidi | Bachem
Schoch | Charles | Rolf
Seda | Jessica | Choe
Sevo | Mike
Shih | Choon | Fong
Shin | Kyung | Hee
Smith-Scott | Jennifer | Cameron
So | Yong | Sin
Tang | Daisy | Lee
Tepper | Elisabeth | Connie
Thorpe | Ozey | Lee
Thorsen | Johannes | Martin
Thorvaldsen | Anne | Lisa
Tobias | Roy | Michael
Tung Lee | Richard | Char
Vedilago | John | David
Walton | Keth | Patrick-Pollard'
Weber | Yvonne
Wong | Shing | Kwan
Zivy | Andrew | Henry

Approved: November 15, 2000.
Doug Rogers,
Chief, Special Projects, Compliance Area 15, Small Business/Self Employed, Territory 3 (Support).

[FR Doc. 00-32487 Filed 12-20-00; 8:45 am]

BILLING CODE 4830-01-P